INTERNATIONAL TRADE COMMISSION

[Investigation Nos. 731-TA-770-773 and 775 (Third Review)]

Stainless Steel Wire Rod From Italy, Japan, Korea, Spain, and Taiwan; Revised Schedule for the Subject Reviews

AGENCY: United States International Trade Commission.

ACTION: Notice.

DATES: Effective Date: April 4, 2016.

FOR FURTHER INFORMATION CONTACT: Fred Ruggles (202-205-3187), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: Effective January 6, 2016, the Commission established a schedule for the conduct of the final phase of the subject reviews (81 FR 1642, January 13, 2016). The Commission is revising its schedule by changing the time of the hearing.

The Commission's new schedule for the hearing in these reviews is as follows: The hearing will be held at the U.S. International Trade Commission Building at 10:00 a.m. on May 18, 2016. All other aspects of the schedule remain unchanged.

For further information concerning these reviews see the Commission's notice cited above and the Commission's Rules of Practice and Procedure, part 201, subparts A through E (19 CFR part 201), and part 207, subparts A, D, E, and F (19 CFR part 207).

Authority: These reviews are being conducted under authority of title VII of the Tariff Act of 1930; this notice is published pursuant to section 207.62 of the Commission's rules.

Issued: April 6, 2016.
By order of the Commission.
Lisa R. Barton,
Secretary to the Commission.

[FR Doc. 2016-08216 Filed 4-8-16; 8:45 am]

BILLING CODE 7020-02-P